DEPARTMENT OF THE TREASURY

Submission for OMB Review; Comment Request

April 28, 2004.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before June 7, 2004 to be assured of consideration.

Internal Revenue Service IRS)

OMB Number: 1545-0042.

Form Number: IRS Form 970.

Type of Review: Extension.

Title: Application to Use LIFO Inventory Method.

Description: Form 970 is filed by individuals, partnerships, trusts, estates, or corporations to elect to use the LIFO inventory method or to extend the LIFO method to additional goods. The IRS uses Form 970 to determine if the election was properly made.

Respondents: Business or other for-profit, individuals or households.

Estimated Number of Respondents/Recordkeepers: 3,000.

Estimated Burden Hours Respondent/Recordkeeper:

Recordkeeping—7 hr., 53 min.

Learning about the law or the form—2 hr., 52 min.

Preparing and sending the form to the IRS—3 hr., 8 min.

Frequency of response: On occasion.

Estimated Total Reporting/Recordkeeping Burden: 41,730 hours.

OMB Number: 1545-1070.

Regulation Project Numbers: TD 8223 Temporary, TD 8432 Final and Temporary, and TD 8657 Final and Temporary.

Type of Review: Extension.

Title:

TD 8223: Branch Tax;

TD 8432: Branch Profits Tax; and

TD 8657: Regulations on Effectively Connected Income and the Branch Profits Tax.

Description: The regulations explain how to comply with section 884, which imposes a tax on the earnings of a foreign corporation's branch that are removed from the branch, and which subject's interest paid by the branch, and certain interest deducted by the foreign corporation to tax.

Respondents: Business or other for-profit.

Estimated Number of Respondents/Recordkeepers: 28,500.

Estimated Burden Hours Respondent/Recordkeeper: 27 minutes.

Frequency of response: Annually.

Estimated Total Reporting/Recordkeeping Burden: 12,694 hours.

OMB Number: 1545-1212.

Form Number: IRS Form 706-QDT.

Type of Review: Extension.

Title: U.S. Estate Tax Return for Qualified Domestic Trusts.

Description: Form 706-QDT is used by the trustee or the designated filer to compute and report the Federal estate tax imposed on qualified domestic trusts by Internal Revenue Code (IRC) section 2056A. IRS uses the information to enforce this tax and to verify that the tax has been properly computed.

Respondents: Individuals or households, business or other for-profit.

Estimated Number of Respondents/Recordkeepers: 80.

Estimated Burden Hours Respondent/Recordkeeper:

Recordkeeping—1 hr., 12 min.

Learning about the law or the form—42 min.

Preparing the form—1 hr., 30 min.

Copying, assembling, and sending the form to the IRS—1 hr., 3 min.

Frequency of response: Annually.

Estimated Total Reporting/Recordkeeping Burden: 357 hours.

Clearance Officer: Glenn P. Kirkland (202) 622-3428, Internal Revenue Service, Room 6411-03, 1111 Constitution Avenue, NW., Washington, DC 20224.

OMB Reviewer: Joseph F. Lackey, Jr. (202) 395-7316, Office of Management and Budget, Room 10235, New Executive Office Building,Washington, DC 20503.

Lois K. Holland,
Treasury PRA Clearance Officer.

[FR Doc. 04-10412 Filed 5-6-04; 8:45 am]

BILLING CODE 4830-01-P